DEPARTMENT OF THE INTERIOR

Bureau of Land Management

[LLAZP02000.L54100000.FR0000.LVCLA12A5210.241A; AZA-35780]

Notice of Realty Action: Application for Conveyance of Federally Owned Mineral Interests in Pima County, Arizona; Correction

AGENCY: Bureau of Land Management, Interior.

ACTION: Correction.

SUMMARY: This action corrects the land description referenced in the SUPPLEMENTARY INFORMATION section of a notice published in the Federal Register on Thursday, February 12, 2015 (80 FR 7877).

On page 7877, column 3, line 67 of the notice, which reads, “THENCE, North 89 degrees 25 minutes 53 seconds West, 3297.38 feet to a point on the North line of Section 21,” is hereby corrected to read, “THENCE, North 1 degree 20 minutes 28 seconds West, 3297.38 feet to a point on the North line of Section 21.”

Rem Hawes,
Acting District Manager.

[FR Doc. 2015-17961 Filed 7-21-15; 8:45 am]

BILLING CODE 4310-32-P